DEPARTMENT OF HOUSING AND URBAN DEVELOPMENT

[Docket No. FR-7070-N-81]

30-Day Notice of Proposed Information Collection: Youth Homelessness Demonstration Application; OMB Control No.: 2506-0210

AGENCY: Office of Policy Development and Research, Chief Data Officer, HUD.

ACTION: Notice of proposed information collection.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: December 7, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email PaperworkReductionActOffice@hud.gov.

FOR FURTHER INFORMATION CONTACT: Colette Pollard, Reports Management Officer, REE, Department of Housing and Urban Development, 451 7th Street SW, Washington, DC 20410; email Colette.Pollard@hud.gov; telephone number (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on April 10, 2023 at 88 FR 21204.

A. Overview of Information Collection

Title of Information Collection: Youth Homelessness Demonstration Program.

OMB Approval Number: 2506-0210.

Type of Request: Revision of a currently approved collection.

Form Number: Youth Homelessness Demonstration Application (all parts), SF 424, SF 424-B, HUD-2993, HUD-2880, SF-LLL.

Description of the need for the information and proposed use: The information to be collected will be used to rate applications, to determine eligibility for the Youth Homelessness Demonstration Program and establish grant amounts. Continuum of Care Collaborative Applicants will respond to narrative prompts to demonstrate their experience and expertise in providing housing and services to youth experiencing homelessness and to describe their intended program design, that will address the needs for housing and services that will result in housing placement and sufficient income to ensure housing is maintained once assistance discontinues.

Respondents: Continuum of Care collaborative applicants, which can be States, local governments, private nonprofit organizations, public housing authorities, and community mental health associations that are public nonprofit organizations.

Estimated Number of Respondents: 150 applicants, 125 organizations submitting project applications, 25 applicants submitting coordinated community plans.

Estimated Number of Responses: 150 community selection applications, 125 project applications, 25 coordinated community plans.

Frequency of Response: 1 community selection application per applicant, 5 project applications per community, 1 coordinated community plan per community.

Average Hours per Response: Each activity also has a unique associated number of hours of response, ranging from 15 minutes to 240 hours.

Total Estimated Burdens: The total number of hours needed for all reporting is 11,083.79 hours.

Submission documents, information collection | Number of respondents | Responses frequency (average) | Total annual responses | Burden hours per response | Total hours | Hourly rate | Burden cost per instrument
Component 1. Community Selection
YHDP Community Selection Narratives | 150 | 1 | 150 | 24 | 3,600.00 | 53.67 | $193,212.00
SF-424—Application for Federal Assistance | 150 | 1 | 150 | 0.5 | 75 | 53.67 | 4,025.25
HUD-424B—Applicant Assurances and Certifications | 150 | 1 | 150 | 0 | 0 | 53.67 | 0
OMB-SF-LLL—Disclosure of Lobbying Activities (where applicable) | 10 | 1 | 10 | 0.17 | 1.7 | 53.67 | 91.24
Nonprofit Certification | 150 | 1 | 150 | 0 | 0 | 53.67 | 0.00
Organizations Code of Conduct | 150 | 1 | 150 | 0 | 0 | 53.67 | 0.00
Youth Action Board Participation Letter | 150 | 1 | 150 | 0.5 | 75 | 53.67 | 4,025.25
Public Child Welfare Agency Commitment Letter | 150 | 1 | 150 | 0.5 | 75 | 53.67 | 4,025.25
Acknowledgement of Application Receipt (HUD-2993) (only applicants granted waiver to submit a paper application) | 10 | 1 | 10 | 0.17 | 0.34 | 53.67 | 18.25
Subtotal | 150 |  | 150 |  | 3,827.04 |  | 205,397.24
Component 2. Project Application
YHDP Project Application Questions | 125 | 1 | 125 | 8 | 1,000.00 | 53.67 | 53,670.00
SF-424—Application for Federal Assistance | 125 | 1 | 125 | 0.08 | 10 | 53.67 | 536.70
HUD-2880—Applicant/Recipient Disclosure/Update Report (2501-0017) | 125 | 1 | 125 | 0.17 | 21.25 | 53.67 | 1,140.49
OMB-SF-LLL—Disclosure of Lobbying Activities (where applicable) | 125 | 1 | 125 | 0.17 | 21.25 | 53.67 | 1,140.49
Subtotal | 125 |  | 125 |  | 1,052.50 |  | 56,487.68
Component 3. Coordinated Community Plan
YHDP Plan Narrative | 25 | 1 | 25 | 240 | 6,000.00 | 53.67 | 322,020.00
Logic Model | 25 | 1 | 25 | 8 | 200 | 53.67 | 10,734.00
Certification of Consistency with the Consolidated Plan (HUD-2991) (2506-0112) | 25 | 1 | 25 | 0.17 | 4.25 | 53.67 | 228.10
Subtotal | 25 | 1 | 25 | 248.17 | 6,204.25 |  | 332,982.10
Total Application Collection | 150 |  | 300 |  | 11,083.79 |  | 594,867.03

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2023-24577 Filed 11-6-23; 8:45 am]

BILLING CODE 4210-67-P